DEPARTMENT OF HOUSING AND URBAN DEVELOPMENT

[Docket No. FR-4644-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7262, Department of Housing and Urban Development, 451 Seventh Street SW., Washington, DC 20410; telephone (202) 708-4300; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administrati9on, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: December 13, 2001.
John D. Garrity,
Director, Office of Special Needs Assistance Programs.

TITLE V, FEDERAL SURPLUS PROPERTY PROGRAM FEDERAL REGISTER REPORT FOR 12/21/01

Suitable/Available Properties

Building (by State)

Maryland

Stillpond Housing

521 Round Top Road

Chestertown Co: Queen Anne's MD 21620-

Landholding Agency: GSA

Property Number: 54200140013

Status: Excess

Comment: 1000 sq. ft., most recent use—residential

GSA Number: 4-U-MD-603

Stillpond Housing

131 Fairview Drive

Chesterview Co: Queen Anne's MD 21620-

Landholding Agency: GSA

Property Number: 54200140014

Status: Excess

Comment: 1000 sq. ft., most recent use—residential

GSA Number: 4-U-MD-603

Stillpond Housing

100 Farwell Road

Chesterview Co: Queen Anne's MD 21620-

Landholding Agency: GSA

Property Number: 54200140015

Status: Excess

Comment: 1000 sq. ft., most recent use—residential presence of lead paint

GSA Number: 4-U-MD-603

Stillpond Housing

115 Rolling Road

Chesterview Co: Kent MD 21620-

Landholding Agency: GSA

Property Number: 54200140016

Status: Excess

Comment: 750 sq. ft., most recent use—residential

GSA Number: 4-U-MD-603

Stillpond Housing

303 Oriole Road

Chestertown Co: Queen Anne's MD 21620-

Landholding Agency: GSA

Property Number: 54200140017

Status: Excess

Comment: 1000 sq. ft., most recent use— residential, presence of lead paint

GSA Number: 4-U-MD-603

Stillpond Housing

213 Manor Avenue

Chestertown Co: Kent MD 21620-

Landholding Agency: GSA

Property Number: 54200140018

Status: Excess

Comment: 750 sq. ft., most recent use—residential

GSA Number: 4-U-MD-603

Unsuitable Properties

Buildings (by State)

District of Columbia

Bldg. A-150

Naval District

Anacostia Annex

Washington Co: DC 20374-

Landholding Agency: Navy

Property Number: 77200140016

Status: Unutilized

Reason: Extensive deterioration

Bldg. A-057

Naval District

Anacostia Annex

Washington Co: DC 20374-

Landholding Agency: Navy

Property Number: 77200140017

Status: Unutilized

Reason: Extensive deterioration

Bldg. A-087/002

Naval District

Anacostia Annex

Washington Co: DC 20374-

Landholding Agency: Navy

Property Number: 77200140018

Status: Unutilized

Reason: Extensive deterioration

Maryland

Bldg. S-038

Naval District

Solomons Complex

Solomons Co: MD 20688-0147

Landholding Agency: Navy

Property Number: 77200140013

Status: Unutilized

Reason: Extensive deterioration

Bldg. S-046

Naval District

Solomons Complex

Solomons Co: MD 20688-0147

Landholding Agency: Navy

Property Number: 77200140014

Status: Unutilized

Reason: Extensive deterioration

Bldg. F-1676

Naval Air Facility

Andrews AFB Co: MD 20762-5518

Landholding Agency: Navy

Property Number: 77200140015

Status: Unutilized

Reason: Extensive deterioration

[FR Doc. 01-31186 Filed 12-20-01; 8:45 am]

BILLING CODE 4210-29-M